DEPARTMENT OF THE INTERIOR

National Park Service

Application Guidelines for the Rivers, Trails, and Conservation Assistance Program

AGENCY: National Park Service, Department of the Interior.

ACTION: Guidelines for States, local governments and non-profit organizations wishing to receive National Park Service assistance for river conservation, trail development, and open space protection.

SUMMARY: The National Park Service's Rivers, Trails, and Conservation Assistance Program, also known as RTCA or Rivers & Trails, works with community groups and local and State governments to conserve rivers, preserve open space, and develop trails and greenways. RTCA works in urban, rural, and suburban communities with the goal of helping applicants achieve on-the-ground conservation successes for their projects. Our focus is on helping communities help themselves by providing expertise and experience from around the nation. From urban promenades to trails along abandoned railroad rights-of-way to wildlife corridors, our assistance in greenway efforts is wide ranging. Similarly, our assistance in river conservation spans downtown riverfronts to regional water trails to stream restoration.

RTCA staff assistance includes help in building partnerships to achieve community-set goals, assessing resources, developing concept plans, engaging public participation, and identifying potential sources of funding. On occasion RTCA provides its assistance in collaboration with regional and national nonprofit organizations to further local conservation initiatives. Although RTCA does not provide financial assistance to support project implementation, we do offer technical assistance to community partners to help them achieve their goals. Project partners may be non-profit organizations, community groups, tribes or tribal governments, and local or State government agencies. Assistance is for one year and may be renewed for a second year if warranted.

We recommend that you contact our regional program staff to discuss your interest and seek guidance before applying. Applications for RTCA assistance are competitively evaluated by our regional offices, based on how well the applications meet the following criteria:

(1) A clear anticipated outcome leading to on-the-ground success;

(2) Commitment, cooperation, and cost-sharing by interested public agencies and non-profit organizations;

(3) Opportunity for significant public involvement;

(4) Protection of significant natural and/or cultural resources and enhancement of outdoor recreational opportunities; and

(5) Consistency with the National Park Service mission and RTCA goals (see “supplementary information”).

Application letters (one to three pages) should include the following information:

(1) Project Title and Description: Provide the name of the project and project location. Note who is taking responsibility for the implementation of the project. Describe briefly what will be done, why the project is important, the proposed schedule, and who will be involved. Identify what populations in your community will be served by the project. Outline the background or prior activity on the project (if any), and the current status.

(2) Resource Importance: Describe the most important natural, cultural, historic, scenic, and recreational resources within the project area.

(3) Anticipated on-the-ground Results: What specific resource will be created, conserved, enhanced or made available to the public? For Instance: How many river miles will be improved by restoration projects? How many river miles will be conserved with enhanced protection status? How many miles of multi-use trail will be created? How many acres of parkland will be created and where? How many acres of wildlife habitat will be restored?

(4) Other Anticipated Accomplishments: For example: an increased community commitment to stewardship, a new conservation organization, or the development of a concept plan for a trail.

(5) Support for the Project: Describe the support you anticipate from interested stakeholders, such as public agencies, nonprofit organizations, and landowners. List the project partners and describe their role(s) and contributions.

(6) Rivers, Trails, and Conservation Assistance Program Role: Describe what kind of technical assistance or role you are seeking from the RTCA program.

(7) Contact Information: Provide information about the key project supporter(s), including name of leader, organization, address, phone, fax, and e-mail.

Support letters from elected officials, community leaders, and cooperating organizations are strongly recommended.

Unfortunately, limited staffing does not allow us to undertake all of the excellent projects that are proposed.

DATES: The national deadline for projects set to start the following fiscal year (which runs from October 1 to September 30) is July 1. Regional RTCA offices may request additional information and may extend the deadline or accept applications at other times during the year. Final project selection is generally completed in early November after passage of the federal budget. In the interim our staff will acknowledge receipt of your application.

ADDRESSES: Please return your completed application letter to your regional RTCA Program Leader. Contact information for all of our regional offices is available through the Internet at http://www.nps.gov/rtca. Alternately, you may submit your application to: Chief, Rivers, Trails, and Conservation Assistance Program, National Park Service, 1849 C Street, NW, MS 3622, Washington, DC 20240, or by e-mail to Sam_Stokes@nps.gov. If submitted to Washington, your application will be forwarded to the appropriate regional office for review.

FOR FURTHER INFORMATION CONTACT: Regional RTCA Offices, as noted above, or you may also call us at 202-565-1200. For more information about RTCA and the work we are doing around the country and in your State, including case studies and regional contact information, please visit our web site at http://www.nps.gov/rtca.

SUPPLEMENTARY INFORMATION:

Rivers, Trails, and Conservation Assistance Mission and Plan

The National Park Service preserves unimpaired the natural and cultural resources and values of the National Park System for the enjoyment, education and inspiration of this and future generations. The Park Service cooperates with partners to extend the benefits of natural and cultural resource conservation and outdoor recreation throughout the country and the world. Mission of the National Park Service, 1997.

The Rivers, Trails, and Conservation Assistance program (RTCA) implements the Service's mission in communities across America. RTCA's vision for the 21st Century is a network of protected rivers, trails, and greenways that promote quality of life and link Americans to their natural and cultural heritage in parks and beyond.

RTCA Goals

Increase Protection for Rivers and Open Space and Help Establish More Trails and Greenways.

(1) Assist communities in establishing trail networks.

(2) Work to protect rivers and streams—their ecosystems and watersheds.

(3) Encourage statewide and regional conservation strategies.

(4) Promote Federal interagency coordination that benefits conservation.

Strengthen Community Conservation Advocacy, Partnerships, and Stewardship

(1) Help establish sustainable conservation organizations.

(2) Assist the communities of which National Parks are a part.

(3) Support conservation partnerships in obtaining funding and other resources.

Enhance Conservation and Recreation Opportunities for All Americans

(1) Engage in projects which reflect the nation's cultural diversity.

(2) Undertake partnership projects in urban and underserved areas.

(3) Establish a strong presence in every State.

(4) Build a staff that represents America's cultural diversity.

Dated: May 9, 2002.
Samuel N. Stokes,
Chief, Rivers, Trails and Conservation Assistance Program.

[FR Doc. 02-15360 Filed 6-18-02; 8:45 am]

BILLING CODE 4310-70-P